DEPARTMENT OF HEALTH AND HUMAN SERVICES

National Institutes of Health

National Institute on Alcohol Abuse and Alcoholism; Amended Notice of Meeting

Notice is hereby given of a change in the meeting of the National Advisory Council on Alcohol Abuse and Alcoholism, April 17, 11:00 a.m. to April 17, 2025, 12:30 p.m., National Institutes of Health, National Institute on Alcohol Abuse and Alcoholism, 6700B Rockledge Drive, Bethesda, MD 20817 which was published in the Federal Register on March 21, 2025, 90 FR 13379-13380, Doc 2025-04829.

This notice is being amended to change the start time from 11:00 a.m. to 12:30 p.m. and the end time from 12:30 p.m. to 2:00 p.m. The meeting will now be held from 12:30 p.m. to 2:00 p.m. The meeting is closed to the public.

Dated: April 7, 2025.
David W. Freeman,
Supervisory Program Analyst, Office of Federal Advisory Committee Policy.

[FR Doc. 2025-06197 Filed 4-10-25; 8:45 am]

BILLING CODE 4140-01-P